DEPARTMENT OF ENERGY

Federal Energy Regulatory Commission

[Docket No. EG02-114-000, et al.]

PH Generating Statutory Trust B, et al.; Electric Rate and Corporate Regulation Filings

April 12, 2002.

Take notice that the following filings have been made with the Commission. Any comments should be submitted in accordance with Standard Paragraph E at the end of this notice.

1. PH Generating Statutory Trust B

[Docket No. EG02-114-000]

Take notice that on April 8, 2002, PH Generating Statutory Trust B (Applicant) filed with the Federal Energy Regulatory Commission (Commission) an application for determination of exempt wholesale generator status pursuant to Part 365 of the Commission's regulations. Applicant is a Connecticut business trust formed for the benefit of First Chicago Leasing Corporation and other passive investors, to purchase and hold legal title to a 40-percent leasehold interest in the Aries Power Plant, an approximately 600-MW natural gas-fired combined-cycle generating facility being constructed near Pleasant Hill in Cass County, Missouri.

Comment Date: May 3, 2002.

2. PH Generating Statutory Trust A

[Docket No. EG02-115-000]

Take notice that on April 8, 2002, PH Generating Statutory Trust A (Applicant) filed with the Federal Energy Regulatory Commission (Commission) an application for determination of exempt wholesale generator status pursuant to Part 365 of the Commission's regulations. Applicant is a Connecticut business trust formed for the benefit of Bankers Commercial Corporation and other passive investors, to purchase and hold legal title to a 60-percent leasehold interest in the Aries Power Plant, an approximately 600-MW natural gas-fired combined-cycle generating facility being constructed near Pleasant Hill in Cass County, Missouri.

Comment Date: May 3, 2002.

3. Mirant Lovett, L.L.C., Mirant Bowline, L.L.C., Mirant NY-Gen, L.L.C.

[Docket Nos. ER99-2043-002 ER99-2044-002 and, ER99-2045-002]

Take notice that on April 8, 2002, Mirant Lovett, L.L.C., Mirant Bowline, L.L.C., and Mirant NY-Gen, L.L.C. (collectively the Mirant New York Companies) tendered for filing an updated market-power analysis in compliance with the requirement of the order granting them authority to make power sales at market-based rates.

Comment Date: April 29, 2002.

4. Unitil Power Corp.

[Docket No. ER02-999-001]

Take notice that on April 8, 2002, Unitil Power Corp. (Unitil Power) made a compliance filing pursuant to the Federal Energy Regulatory Commission's (Commission) March 22, 2002 Order accepting its proposed market-based rate tariff. Unitil Power's filing includes a code of conduct and amends its tariff to specify the ancillary services it will sell into markets administered by ISO New England and the New York ISO.

A copy of the filing was served upon the New Hampshire Public Utilities Commission.

Comment Date: April 29, 2002.

5. Midwest Independent Transmission System Operator, Inc.

[Docket No. ER02-1307-000]

Take notice that on April 9, 2002, Midwest Independent Transmission System Operator, Inc. (Midwest ISO) pursuant to Section 205 of the Federal Power Act and Section 35.13 of the Federal Energy Regulatory Commission's (Commission) regulations, 18 CFR 35.13, submitted for filing a request for a change in the effective date for Service Agreements for the transmission service requested by East Kentucky Power Cooperative.

A copy of this filing was sent to East Kentucky Power Cooperative.

Comment Date: April 30, 2002.

6. Midwest Independent Transmission System Operator, Inc.

[Docket No. ER02-1310-000]

Take notice that on April 9, 2002, Midwest Independent Transmission System Operator, Inc. (Midwest ISO) pursuant to Section 205 of the Federal Power Act and Section 35.13 of the Federal Energy Regulatory Commission's (Commission) regulations, 18 CFR 35.13, submitted for filing a request for a change in the effective date for Service Agreements for the transmission service requested by Omaha Public Power District.

A copy of this filing was sent to Omaha Public Power District.

Comment Date: April 30, 2002.

7. Midwest Independent Transmission System Operator, Inc.

[Docket No. ER02-1311-000]

Take notice that on April 9, 2002, Midwest Independent Transmission System Operator, Inc. (Midwest ISO) pursuant to Section 205 of the Federal Power Act and Section 35.13 of the Federal Energy Regulatory Commission's (Commission) regulations, 18 CFR 35.13, submitted for filing a request for a change in the effective date for Service Agreements for the transmission service requested by UtiliCorp United, Inc.

A copy of this filing was sent to UtiliCorp United, Inc.

Comment Date: April 30, 2002.

8. Progress Energy on behalf of Florida Power Corporation

[Docket No. ER02-1500-000]

e notice that on April 8, 2002, Florida Power Corporation (FPC) tendered for filing Service Agreements for Non-Firm and Short-Term Firm Point-to-Point Transmission Service with Progress Ventures, Inc. Service to this Eligible Customer will be in accordance with the terms and conditions of the Open Access Transmission Tariff filed on behalf of FPC.

FPC is requesting an effective date of March 10, 2002 for these Service Agreements. A copy of the filing was served upon the North Carolina Utilities Commission and the Florida Public Service Commission.

Comment Date: April 29, 2002.

9. Cinergy Services, Inc.

[Docket No. ER02-1501-000]

Take notice that on April 9, 2002, Cinergy Services, Inc. (Cinergy) and Alliant Energy Industrial Services, Inc., are requesting a cancellation of Service Agreement No.85, under Cinergy Operating Companies, FERC Electric Cost-Based Power Sales Tariff, FERC Electric Tariff Original Volume No. 6.

Cinergy requests an effective date of April 10, 2002.

Comment Date: April 30, 2002.

10. Cinergy Services, Inc.

[Docket No. ER02-1502-000]

Take notice that on April 9, 2002, Cinergy Services, Inc. (Cinergy) and Alliant Energy Industrial Services, Inc., are requesting a cancellation of Service Agreement No.85, under Cinergy Operating Companies, FERC Electric Cost-Based Power Sales Tariff, FERC Electric Tariff Original Volume No. 7.

Cinergy requests an effective date of April 10, 2002.

Comment Date: April 30, 2002

11. Cinergy Services, Inc.

Docket No. ER02-1503-000

Take notice that on April 9, 2002, Cinergy Services, Inc. (Cinergy) and Alliant Energy Industrial Services, Inc., are requesting a cancellation of Service Agreement No.161, under Cinergy Operating Companies, FERC Electric Cost-Based Power Sales Tariff, FERC Electric Tariff Original Volume No. 7.

Cinergy requests an effective date of April 10, 2002.

Comment Date: April 30, 2002.

12. Cinergy Services, Inc.

[Docket No. ER02-1504-000]

Take notice that on April 9, 2002, Cinergy Services, Inc. (Cinergy) and Alliant Energy Industrial Services, Inc., are requesting a cancellation of Service Agreement No.161, under Cinergy Operating Companies, FERC Electric Cost-Based Power Sales Tariff, FERC Electric Tariff Original Volume No. 4.

Cinergy requests an effective date of April 10, 2002.

Comment Date: April 30, 2002.

13. Pinnacle West Capital Corporation

[Docket No. ER02-1505-000]

Take notice that on April 9, 2002, Pinnacle West Capital Corporation (PWCC) tendered for filing five Service Agreements under the Western Systems Power Pool Agreement for service to APS Energy Services and a Service Agreement with Utah Municipal Power Agency under PWCC's FERC Rate Schedule No. 1. PWCC has requested waiver of the Commission's Notice Requirements for effective dates as stated in the service agreements.

PWCC has requested confidential treatment of certain privileged information pursuant to 18 CFR 388.112 in the long-term contracts.

A copy of this filing has been served on APS Energy Services and Utah Municipal Power Agency.

Comment Date: April 30, 2002.

14. PJM Interconnection, L.L.C.

[Docket No. ER02-1506-000]

Take notice that on April 9, 2002, PJM Interconnection, L.L.C. (PJM) submitted for filing a revised Schedule 2 to the PJM Open Access Tariff to include the Handsome Lake Energy LLC (Handsome Lake) revenue requirement for providing Reactive Support and Voltage Control from Generation Sources Service in the PJM region which was accepted for filing by the Commission in Docket No. ER02-771 on March 8, 2002.

PJM requests a waiver of the Commission's notice regulations to permit an effective date of April 1, 2002, consistent with the effective date of Handsome Lake's membership in PJM and the effective date for the revenue requirement as set forth in the Commission's letter order in Docket No. ER02-771.

PJM states that it served a copy of its filing on Handsome Lake, all PJM members, and each of the state electric regulatory commissions within the PJM region.

Comment Date: April 30, 2002.

15.New York Independent System Operator, Inc.

[Docket No. ER02-1507-000]

Take notice that on April 8, 2002 the New York System Operator, Inc. (NYISO) filed with the Federal Energy Regulatory Commission (Commission) proposed revisions to its Open Access Transmission Tariff and Market Administration and Control Area Services Tariff to implement an enhancement to its pre-scheduling rules. The NYISO has requested an effective date of April 11, 2001.

The NYISO has mailed a copy of this compliance filing to all persons who are signatories to the NYISO's Open Access Transmission Tariff or Market Administration and Control Area Services Tariff, to the New York State Public Service Commission, and to the electric utility regulatory agencies in New Jersey and Pennsylvania. The NYISO has also mailed a copy to each person designated on the official service list maintained by the Commission for Docket No. ER02-638-000.

Comment Date: April 29, 2002.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.
Deputy Secretary

[FR Doc. 02-9892 Filed 4-22-02; 8:45 am]

BILLING CODE 6717-01-P